SECURITIES AND EXCHANGE COMMISSION

[Release No. 34-82850; File No. SR-NYSEArca-2017-69]

Self-Regulatory Organizations; NYSE Arca, Inc.; Notice of Withdrawal of a Proposed Rule Change, as Modified by Amendment No. 2, To List and Trade Shares of ProShares QuadPro Funds Under NYSE Arca Rule 8.200-E

March 9, 2018.

On July 31, 2017, NYSE Arca, Inc. (“Exchange” or “NYSE Arca”) filed with the Securities and Exchange Commission (“Commission”), pursuant to Section 19(b)(1) of the Securities Exchange Act of 1934 (“Act”) ¹ and Rule 19b-4 thereunder,² a proposed rule change to list and trade shares of ProShares QuadPro U.S. Large Cap, ProShares QuadPro Short U.S. Large Cap, ProShares QuadPro U.S. Small Cap, and ProShares QuadPro Short U.S. Small Cap under NYSE Arca Rule 8.200-E. The proposed rule change was published for comment in the Federal Register on August 18, 2017.³ On September 28, 2017, pursuant to Section 19(b)(2) of the Act,⁴ the Commission designated a longer period within which to approve the proposed rule change, disapprove the proposed rule change, or institute proceedings to determine whether to disapprove the proposed rule change.⁵ On September 29, 2017, the Exchange filed Amendment No. 1 to the proposed rule change, which amended and superseded the proposed rule change as originally filed. On November 14, 2017, the Exchange filed Amendment No. 2 to the proposed rule change, which amended and superseded the proposed rule change as modified by Amendment No. 1. On November 16, 2017, the Commission published notice of Amendment No. 2 and instituted proceedings under Section 19(b)(2)(B) of the Act ⁶ to determine whether to approve or disapprove the proposed rule change, as modified by Amendment No. 2.⁷ On February 9, 2018, pursuant to Section 19(b)(2) of the Act,⁸ the Commission designated a longer period within which to approve or disapprove the proposed rule change, as modified by Amendment No. 2.⁹ The Commission has received no comments on the proposed rule change.

¹ 15 U.S.C. 78s(b)(1).

² 17 CFR 240.19b-4.

³ See Securities Exchange Act Release No. 81388 (August 14, 2017), 82 FR 39477.

⁴ 15 U.S.C. 78s(b)(2).

⁵ See Securities Exchange Act Release No. 81746, 82 FR 46315 (October 4, 2017) (designating November 16, 2017 as the date by which the Commission shall either approve or disapprove, or institute proceedings to determine whether to disapprove, the proposed rule change).

⁶ 15 U.S.C. 78s(b)(2)(B).

⁷ See Securities Exchange Act Release No. 82105, 82 FR 55699 (November 22, 2017).

⁸ 15 U.S.C. 78s(b)(2).

⁹ See Securities Exchange Act Release No. 82684, 83 FR 6914 (February 15, 2018) (designating April 15, 2018 as the date by which the Commission shall either approve or disapprove the proposed rule change, as modified by Amendment No. 2).

On March 7, 2018, the Exchange withdrew the proposed rule change (SR-NYSEArca-2017-69), as modified by Amendment No. 2.

For the Commission, by the Division of Trading and Markets, pursuant to delegated authority.¹⁰
Eduardo A. Aleman,
Assistant Secretary.

¹⁰ 17 CFR 200.30-3(a)(12).

[FR Doc. 2018-05166 Filed 3-13-18; 8:45 am]

BILLING CODE 8011-01-P